DEPARTMENT OF ENERGY

Costs and Benefits of Net Energy Metering: Request for Information

AGENCY: Office of Energy Policy and Systems Analysis, Department of Energy.

ACTION: Notice of request for information (RFI).

SUMMARY: The U.S. Congress has directed the U.S. Department of Energy (DOE or Department), as part of the Grid Modernization Initiative, to conduct a study of the cost and benefit considerations of net metering to utilities (utility business perspective), ratepayers (consumer perspective), and the electrical grid (technical/operational perspective). There have been numerous studies assessing the impacts of net metering in states across the United States. As part of this study, DOE seeks stakeholder input on existing studies (2012-present) assessing the costs and benefits of net metering, and the availability of data that can be used in conducting such studies. DOE expects to use this input to help inform its report to Congress.

DATES: Public comments are due on or before October 30, 2017.

ADDRESSES:

Electronic: Interested persons are encouraged to submit comments electronically identified by docket number EERE-2017-OT-0056 to [2017EnergyMetering0056@ee.doe.gov]. Your response should be limited to 8 pages.

Email: [2017EnergyMetering0056@ee.doe.gov]. Include EERE-2017-OT-0056 in the subject line of the message. Comments, data, and other information submitted to DOE electronically should be provided in PDF, Microsoft Word or Excel, WordPerfect, or text (ASCII) file format. Provide documents that are not secured, are written in English, and are free of any defects or viruses. Documents should not contain special characters or any form of encryption and, if possible, they should carry the electronic signature of the author.

Or Mail to: U.S. Department of Energy, 1000 Independence Ave. SW., Mailstop EP-60, Office of Energy Policy and Systems Analysis, Net Metering Comments.

Instructions: All submissions received must include the agency name and docket number.

Docket: The docket is available for review at www.regulations.gov, including Federal Register notices, comments, and other supporting documents/materials (search EERE-2017-OT-0056).

The docket Web page can be found at: http://www.regulations.gov/#!docketDetail;D=EERE-2017-OT-0056.

FOR FURTHER INFORMATION CONTACT: Ms. Kate Marks, EPSA, U.S. Department of Energy, Office of Energy Policy and Systems Analysis, 1000 Independence Avenue SW., Washington, DC 20585-0121. Telephone: (202) 586-9842, Email: Kate.Marks@hq.doe.gov.

SUPPLEMENTARY INFORMATION: DOE seeks stakeholder input on information or existing studies (2012-present) assessing the costs and benefits involved in net energy metering (NEM), and the availability of data that can be used in conducting such studies. DOE expects to use this input to help inform its report on net metering cost-benefit analyses.

DOE is interested in several specific types of information related to NEM cost-benefit studies, including:

1. Motivations and the policy context for conducting NEM cost-benefit studies, including the role of cost-benefit analysis in driving policy decisions around NEM and related policies; descriptions of other considerations for policymakers considering NEM and related policies.

2. Categories of costs and benefits—describe relevant categories of costs and benefits and reasons for inclusion or exclusion of these categories in NEM studies.

3. Methodological issues—identify key methodological elements that can vary significantly when quantifying factors considered in the benefit-cost analysis. Key drivers that might be considered include, but are not limited to, local policy objectives and local electricity system fundamentals.

4. Fundamental drivers and underlying market conditions—identify key drivers that establish the context for the values and cause differing outcomes among studies of cost/benefit results in a particular category, such as differing levels of excess generation capacity, transmission, or distribution system capacity, projected demand growth, level of penetration and location of distributed generation, retail prices, etc.

5. Are there specific emerging issues related to net metering cost-benefit analyses that are improving or complicating the application of benefit-cost analysis?

The following items are considered out of scope of the report and information on these items should not be included in the responses:

1. Costs and benefits of distributed solar generation beyond distributed solar's impact on net metering;

2. Indirect cost/benefits (e.g., societal impacts, network effects) that go beyond what is included in existing analyses;

3. Recommendations on

a. How to conduct cost/benefit analysis,

b. NEM design options,

c. Transitions to alternative forms of compensation.

All interested parties are invited to submit in writing by the date specified in the DATES section of this RFI, comments and information on all elements listed in this SUPPLEMENTARY section. Please submit comments only and cite docket number EERE-2017-OT-0056, in all correspondence related to this case. All comments received will be posted without change to http://www.regulations.gov, including any personal and/or business confidential information provided.

Do not submit to the RFI information for which disclosure is restricted by statute, such as trade secrets and commercial or financial information (hereinafter referred to as Confidential Business Information (CBI)). Comments submitted to the RFI email address cannot be claimed as CBI. Comments received through the RFI address will waive any CBI claims for the information submitted. DOE plans to publish all information received in response to this RFI.

Issued in Washington, DC, on September 12, 2017.
Sean Cunningham,
Director, Office of Energy Policy and Systems Analysis, U.S. Department of Energy.

[FR Doc. 2017-19647 Filed 9-14-17; 8:45 am]

BILLING CODE 6450-01-P